DEPARTMENT OF TRANSPORTATION

Federal Aviation Administration

14 CFR Part 25

[Docket No. FAA-2019-1102; Notice No. 25-20-03-SC]

Special Conditions: Qantas Airways Limited, Boeing Model 737-800 Airplane; Personal Electronic-Device Straps Installed on Seat Backs

AGENCY: Federal Aviation Administration (FAA), DOT.

ACTION: Special conditions; withdrawal.

SUMMARY: The FAA is withdrawing the Notice of Proposed Special Conditions, which published in the Federal Register on March 31, 2020. The FAA is withdrawing the notice because the special conditions are not necessary.

DATES: The special conditions published on March 31, 2020, at 85 FR 17786, are withdrawn as of July 22, 2020.

FOR FURTHER INFORMATION CONTACT: John Shelden, Airframe and Cabin Safety Section, AIR-675, Transport Standards Branch, Policy and Innovation Division, Aircraft Certification Service, Federal Aviation Administration, 2200 South 216th Street, Des Moines, Washington 98198; telephone and fax 206-231-3214; email john.shelden@faa.gov.

SUPPLEMENTARY INFORMATION:

Background

On March 31, 2020, the FAA published in the Federal Register Notice of Proposed Special Conditions No. 25-20-03-SC, Docket No. FAA-2019-1102 (85 FR 17786). The published special conditions pertain to the Qantas Airways Limited installation of personal electronic-device (PED) retention straps on passenger seat backs, on Boeing Model 737-800 airplanes.

Reason for Withdrawal

Upon further review, the FAA has determined that the current airworthiness standards are sufficient, and special conditions are not necessary to address PED retention straps installed on the backs of passenger seats in Boeing Model 737-800 airplanes, as modified by Qantas Airways Limited. The applicable title 14, Code of Federal Regulations (14 CFR) airworthiness standards include:

14 CFR 25.562(c)(5) and (c)(8)—Emergency Landing Dynamic Conditions

14 CFR 25.601—Hazardous Features

14 CFR 25.785(b), (d), and (k)—Occupant Injury and Projecting Objects

14 CFR 25.787(a) and (b)—Stowage Compartments

14 CFR 25.813(c)—Emergency Exit Access

14 CFR 25.1301(a)—Function and Installation

14 CFR 25.1541—Markings and Placards

In addition, the FAA has approved several other PED-retention designs using the

Conclusion

The Notice of Proposed Special Conditions No. 25-20-03-SC, Docket No. FAA-2019-1102, published at 85 FR 17786, is therefore withdrawn.

James E Wilborn,
Acting Manager, Transport Standards Branch, Policy and Innovation Division, Aircraft Certification Service.

[FR Doc. 2020-15034 Filed 7-21-20; 8:45 am]

BILLING CODE 4910-13-P